DEPARTMENT OF COMMERCE

International Trade Administration

[C-580-835]

Stainless Steel Sheet and Strip in Coils From the Republic of Korea: Amended Final Results of Countervailing Duty Administrative Review

AGENCY: Import Administration, International Trade Administration, Department of Commerce.

ACTION: Amendment of Final Results of Countervailing Duty Administrative Review.

SUMMARY: On January 15, 2002, the Department of Commerce (the Department) published in the Federal Register its final results of the first administrative review of the countervailing duty order on stainless steel sheet and strip in coils from the Republic of Korea for the period November 17, 1998, through December 31, 1999 (67 FR 1964). On January 15, 2002, we received a timely filed ministerial error allegation. Based on our analysis of this information, the Department has revised the net subsidy rate for Inchon Iron & Steel Co., Ltd. (Inchon).

EFFECTIVE DATE: February 22, 2002.

FOR FURTHER INFORMATION CONTACT: Tipten Troidl at 202-482-1767 or Darla Brown at 202-482-2849, Office of AD/CVD Enforcement VI, Group II, Import Administration, International Trade Administration, U.S. Department of Commerce, Room 4012, 14th Street and Constitution Avenue, NW., Washington, DC 20230.

Corrections

On January 15, 2002, the respondent, Inchon, timely filed two ministerial error allegations. First, Inchon alleges that the Department calculated a countervailable benefit on an interest payment for a won-denominated variable rate loan outstanding during the POR by using an incorrect number of days outstanding. Inchon claims that the first ministerial error is the result of a keystroke error in one of the cells of the spreadsheet used to calculate the number of days outstanding for an interest rate payment. Second, respondent argues that the Department made a ministerial error when it used won-denominated fixed-rate benchmarks to calculate benefits on won-denominated variable-rate loans outstanding during the POR. The petitioner has not commented on these ministerial error allegations.

We find that both alleged errors fulfill the criteria for being a ministerial error. We agree with Inchon that the Department inadvertently miscalculated the benefit attributed to an interest payment for a won-denominated variable rate loan outstanding during the POR. We have addressed this error for the amended final results by correcting the number of days outstanding used in the benefit calculation. We find that it does fulfill the criteria for being a ministerial error. Therefore, we made the appropriate corrections to the loan calculations. See February 14, 2002 “Memorandum to Bernard Carreau, Deputy Assistant Secretary for AD/CVD Enforcement II from Melissa G. Skinner, Director, Office Director, AD/CVD Enforcement VI, RE: Ministerial Error Allegation filed by Respondent, Final Results of Countervailing Duty Administrative Review: Stainless Steel Sheet and Strip from the Republic of Korea.”

As a result, the net subsidy rate for the GOK's Direction of Credit program should have been 0.07 percent ad valorem.

Amended Final Results of Review

Pursuant to the Department's regulations at 19 CFR 351.224(e), Inchon's amended rate is 2.45 percent ad valorem.

The Department will instruct the Customs Service (“Customs”) to assess countervailing duties on all appropriate entries on or after November 17, 1998, and on or before December 31, 1999. The Department will issue liquidation instructions directly to Customs. The amended cash deposit requirements are effective for all shipments from Inchon of the subject merchandise entered, or withdrawn from warehouse, for consumption on or after the date of publication of this notice and shall remain in effect until publication of the final results of the next administrative review.

This amendment to the final results of the countervailing duty administrative review is in accordance with section 751(a)(1) of the Tariff Act, as amended, (19 U.S.C. 1675(a)(1), 19 CFR 351.213, and 19 CFR 351.221(b)(5)).

Dated: February 15, 2002.
Faryar Shirzad,
Assistant Secretary for, Import Administration.

[FR Doc. 02-4268 Filed 2-21-02; 8:45 am]

BILLING CODE 3510-DS-P